DEPARTMENT OF AGRICULTURE

Food Safety and Inspection Service

[Docket No. FSIS-2014-0023]

Changes to the Salmonella and Campylobacter Verification Testing Program: Proposed Performance Standards for Salmonella and Campylobacter in Not-Ready-to-Eat Comminuted Chicken and Turkey Products and Raw Chicken Parts and Related Agency Verification Procedures and Other Changes to Agency Sampling

AGENCY: Food Safety and Inspection Service, USDA.

ACTION: Notice; extension of comment period.

SUMMARY: The Food Safety and Inspection Service (FSIS) is extending the comment period for the Federal Register notice “Changes to the Salmonella and Campylobacter Verification Testing Program: Proposed Performance Standards for Salmonella and Campylobacter in Not-Ready-to-Eat Comminuted Chicken and Turkey Products and Raw Chicken Parts and Related Agency Verification Procedures and Other Changes to Agency Sampling” until May 26, 2015. The Agency is taking this action in response to a request made by a coalition of trade associations.

DATES: Comments are due by May 26, 2015.

ADDRESSES: FSIS invites interested persons to submit comments. Comments may be submitted by one of the following methods:

Federal eRulemaking Portal: This Web site provides the ability to type short comments directly into the comment field on this Web page or attach a file for lengthier comments. Go to http://www.regulations.gov/. Follow the on-line instructions at that site for submitting comments.

Mail, CD-ROMs: Send to Docket Clerk, U.S. Department of Agriculture, Food Safety and Inspection Service, Patriots Plaza 3, 355 E Street, SW., Mailstop 3782, Room 8-163B, Washington, DC 20250-3700.

Hand- or courier-delivered submittals: Deliver to Patriots Plaza 3, 355 E Street SW., Room 8-163A, Washington, DC 20250-3700.

Instructions: All items submitted by mail or electronic mail must include the Agency name and docket number FSIS-2014-0023. Comments received in response to this docket will be made available for public inspection and posted without change, including any personal information, to http://www.regulations.gov.

Docket: For access to background documents or to comments received, go to the FSIS Docket Room at Patriots Plaza 3, 355 E Street SW., Room 164-A, Washington, DC 20250-3700 between 8:00 a.m. and 4:30 p.m., Monday through Friday.

FOR FURTHER INFORMATION CONTACT: Daniel L. Engeljohn, Ph.D., Assistant Administrator, Office of Policy and Program Development; Telephone: (202) 205-0495, or by Fax: (202) 720-2025.

SUPPLEMENTARY INFORMATION: On January 26, 2015, FSIS published a notice in the Federal Register to announce and request comment on new pathogen reduction performance standards for Salmonella and Campylobacter in raw chicken parts and not-ready-to-eat (NRTE) comminuted chicken and turkey products (80 FR 3940). The Agency also announced its plans to begin sampling raw chicken parts in March 2015 to gain additional information on the prevalence and the microbiological characteristics of Salmonella and Campylobacter in those products (80 FR at 3945). In addition, FSIS announced that it will begin exploratory sampling of raw pork products in March 2015 for pathogens of public health concern, as well as for indicator organisms (80 FR at 3942). FSIS also announced that it will begin sampling imported poultry carcasses, imported raw chicken parts, and imported NRTE comminuted chicken and turkey for Salmonella and Campylobacter in March 2015 (80 FR at 3944).

In addition, starting in March 2015, for products that are currently subject to Salmonella or Campylobacter performance standards, FSIS announced that it plans to use routine sampling throughout the year rather than the current set-based approach, whereby FSIS collects a given number of samples consecutive days to assess whether establishments' processes are effectively addressing these pathogens. FSIS stated that it would perform this assessment using a moving window of sampling results (80 FR at 3946).

FSIS also announced that, after reviewing the comments received on the notice, beginning July 1, 2015, the Agency plans to begin web-posting individual establishment category information for chicken and turkey carcasses. FSIS stated that it would assess what category establishments are in as of July 1, using combined historical set data and sample results beginning March 2015. Meanwhile, FSIS stated it will continue web-posting existing Category 3 poultry carcass establishments. Finally, starting in March 2015, the Agency announced that it would begin web-posting aggregate reports for chicken parts as data become available, and comminuted chicken and turkey using historical data and new results beginning in March (80 FR at 3948).

In a letter addressed to FSIS Deputy Under Secretary Alfred V. Almanza, dated January 30, 2015, a coalition of trade associations requested that FSIS extend the comment period by 90 days to provide additional time to formulate meaningful comments. In addition, the trade associations requested that FSIS extend all implementation dates discussed above by 90 days to ensure the Agency has an opportunity to consider the comments and to ensure that the affected industry has enough time to prepare for changes in Agency actions.

FSIS will extend the comment period by an additional 60 days; the comment period will now end on May 26, 2015. FSIS has determined that 60 days should be sufficient because FSIS has made available much of the information in the January 2015 Federal Register notice in other Federal Register notices ¹ and in the Salmonella Action Plan.² FSIS will fully consider all comments received in response to the notice. FSIS will not, however, delay implementation of actions announced in the notice.

¹ 78 FR 53017; Aug. 28, 2013, 79 FR 32436; Jun. 5, 2014

² http://www.fsis.usda.gov/wps/portal/fsis/topics/food-safety-education/get-answers/food-safety-fact-sheets/foodborne-illness-and-disease/salmonella/sap

Therefore, in March 2015, FSIS intends to proceed with implementing sampling of raw chicken parts to gain additional information on the prevalence and the microbiological characteristics of Salmonella and Campylobacter in those products. FSIS will analyze this data and will discuss it in the Federal Register announcing final standards. In March 2015, FSIS also intends to begin exploratory sampling of raw pork products for pathogens of public health concern, as well as for indicator organisms. Finally, FSIS intends to begin sampling imported poultry carcasses, imported raw chicken parts, and imported not-ready-to-eat comminuted chicken and turkey for Salmonella and Campylobacter in March 2015.

Similarly, in March 2015, for all products that are currently under Salmonella or Campylobacter performance standards, FSIS intends to proceed with using the moving window approach to assess whether establishment meet those standards. FSIS does not see a reason to delay analyzing standards according to the moving window approach because the Agency previously announced that it intended to do so and requested comments on this approach.³ FSIS responded to those comments ⁴ and provided additional information on this approach in the January 2015 Federal Register notice (80 FR at 3946). Furthermore, FSIS does not expect establishment categories to change greatly when the Agency discontinues the set approach and starts using the moving window approach. Therefore, this change should not have a significant effect on establishments.

³ 78 FR at 53019

⁴ 79 FR at 32439

FSIS also intends to proceed with posting aggregate reports for chicken parts and comminuted chicken and turkey in March 2015 as announced in the January Federal Register notice. Until FSIS establishes final standards for these products, establishments may use these reports to increase their awareness of the pathogen incidence in these products and compare the on-going incidence in their establishments against the results made public by FSIS. Establishments may also choose to make changes in their procedures as necessary to control Salmonella and Campylobacter, particularly if the levels of these pathogens in their products are higher than the proposed standard.

Finally, beginning July 1, 2015, the Agency plans to begin web-posting individual establishment category information for chicken and turkey carcasses as announced in the January Federal Register notice. However, as stated in the notice, we will assess the comments on that issue prior to posting.

USDA Nondiscrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail

U.S. Department of Agriculture, Director, Office of Adjudication, 1400 Independence Avenue SW., Washington, DC 20250-9410.

Fax

(202) 690-7442.

Email

program.intake@usda.gov.

Persons with disabilities who require alternative means for communication (Braille, large print, audiotape, etc.) should contact USDA's TARGET Center at (202)720-2600 (voice and TDD).

Additional Public Notification

Public awareness of all segments of rulemaking and policy development is important. Consequently, FSIS will announce this Federal Register publication on-line through the FSIS Web page located at: http://www.fsis.usda.gov/federal-register .

FSIS also will make copies of this publication available through the FSIS Constituent Update, which is used to provide information regarding FSIS policies, procedures, regulations, Federal Register notices, FSIS public meetings, and other types of information that could affect or would be of interest to our constituents and stakeholders. The Update is available on the FSIS Web page. Through the Web page, FSIS is able to provide information to a much broader, more diverse audience. In addition, FSIS offers an email subscription service which provides automatic and customized access to selected food safety news and information. This service is available at: http://www.fsis.usda.gov/subscribe . Options range from recalls to export information, regulations, directives, and notices. Customers can add or delete subscriptions themselves, and have the option to password protect their accounts.

Done at Washington, DC on: March 4, 2015.
Alfred V. Almanza,
Acting Administrator.

[FR Doc. 2015-05494 Filed 3-9-15; 08:45 am]

BILLING CODE 3410-DM-P